DEPARTMENT OF COMMERCE

International Trade Administration

Information Services Order Form

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before June 20, 2005.

ADDRESSES: Direct all written comments to Diana Hynek, Departmental Paperwork Clearance Officer, Department of Commerce, Room 6612, 14th & Constitution Avenue, NW., Washington, DC 20230 or via the Internet at dHynek@doc.gov.

FOR FURTHER INFORMATION CONTACT: Request for additional information or copies of the information collection instrument and instructions should be directed to Joseph English, telephone 202-482-3334, fax 202-482-5362, e-mail Joseph.English@mail.doc.gov.

SUPPLEMENTARY INFORMATION:

I. Abstract

The U.S. & Foreign Commercial Service Export Assistance Centers offer their clients DOC programs, market research, and services to enable the client to begin exporting or to expand existing exporting efforts.

The Information Services Order Form is used by US&FCS trade specialists in the Export Assistance Centers to collect information about clients in order to determine which programs or services would best help clients meet their export goals. This form is required for clients to order US&FCS programs and services. Certain programs are tailored for individual clients, e.g., the International Partner Search, which identifies potential overseas agents or distributors for a particular U.S. manufacturer.

II. Method of Data Collection

Trade specialists gather information from clients at the Export Assistance Centers.

III. Data

OMB Number: 0625-0143.

Form Number: ITA-4096P.

Type of Review: Regular submission.

Affected Public: Companies interested in ordering export promotion products or services.

Estimated Number of Respondents: 975.

Estimated Time Per Response: Range from 5 to 10 minutes.

Estimated Total Annual Burden Hours: 323 hours.

IV. Request for Comments

Comments are invited on whether the proposed collection of information is necessary for the proper performance of the functions of the agency, including (a) whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: April 15, 2005.
Madeleine Clayton,
Management Analyst, Office of the Chief Information Officer.

[FR Doc. E5-1863 Filed 4-19-05; 8:45 am]

BILLING CODE 3510-DS-P